DEPARTMENT OF THE INTERIOR

National Park Service

National Register of Historic Places; Notification of Pending Nominations and Related Actions

Nominations for the following properties being considered for listing or related actions in the National Register were received by the National Park Service before April 9, 2005.

Pursuant to section 60.13 of 36 CFR part 60 written comments concerning the significance of these properties under the National Register criteria for evaluation may be forwarded by United States Postal Service, to the National Register of Historic Places, National Park Service, 1849 C St. NW., 2280, Washington, DC 20240; by all other carriers, National Register of Historic Places, National Park Service,1201 Eye St. NW., 8th floor, Washington DC 20005; or by fax, 202-371-6447. Written or faxed comments should be submitted by May 26, 2005.

Carol D. Shull,
Keeper of the National Register of Historic Places.

California

Alameda County

Panoramic Hill, Panoramic Wy, Canyon Rd., Mosswood, Orchard Ln., Arden Rd., Berkeley, 05000424

Colorado

Alamosa County

First Baptist Church, (Ornamental Concrete Block Buildings in Colorado MPS) 408 State Ave., Alamosa, 05000425

El Paso County

Shove Memorial Chapel, (Colorado College MPS) 1010 N. Tejon St., Colorado Springs, 05000426

Georgia

Forsyth County

Cumming Cemetery, Bordered by GA 20, GA 9 and Resthaven Dr., Cumming, 05000428

Lowndes County

East End Historic District, NE of downtown Valdosta roughly bounded by North Ashley and E. Ann Sts., East Hill Ave., and Georgia and Florida RR, Valdosta, 05000427

Illinois

Cook County

Des Plaines Methodist Camp Ground, 1250 Campground Rd., Des Plaines, 05000429

Crawford County

Robinson High School Auditorium—Gymnasium, 200 Blk of E. Highland Ave., Robinson, 05000434

Lee County

Wright, Stephen, House, 612 Chicago Rd., Paw Paw, 05000433

Madison County

Collinsville Masonic Temple Lodge #712 A.F. & A.M., 213 W. Clay St., Collinsville, 05000430

Menard County

Rogers, Col. Matthew, Building, 200 S. Main St., Athens, 05000431

Rock Island County

Villa de Chantal Historic District, 2101 16th Ave., Rock Island, 05000432

Minnesota

Hennepin County

Minneapolis Fire Department Repair Shop, 24 University Ave. NE and 222 First Ave. NE, Minneapolis, 05000447

St. Louis County

Sacred Heart Cathedral, Sacred Heart School and Christian Brothers (Boundary Increase), 315 N 2nd Ave. W, Duluth, 05000446

New Mexico

San Miguel County

Conchas Dam Historic District, Roughly bounded the State Park South Area, State Park North Area, Conchas Reservoir and Bell Ranch, Conchas Dam, 05000454

New York

Albany County

Knox District School No. 5, Ketchum Rd., Knox, 05000441

Erie County

Saturn Club, 977 Delaware Ave., Buffalo, 05000444

New York County

Actors Temple, 339 W. 47th St., New York, 05000445

Guggenheim, Solomon R., Museum, 1071 Fifth Ave., New York, 05000443

Onondaga County

Elmwood Park, (Historic Designed Landscapes of Syracuse MPS) Glenwood Ave., South Ave., City Boundary, Syracuse, 05000439

Rensselaer County

Sharpe Homestead and Cemetery, 44 Laura Ln., Defreestville, 05000440

Washington County

South Granville Congregational Church and Parsonage, 7179 NY 149, Granville, 05000442

North Carolina

Catawba County

Kenworth Historic District (Boundary Increase), Roughly along Fifth St. SE, Fifth Ave. SE, third Avenue Dr. SE, and Second Ave. SE, Hickory, 05000435

Chowan County

Moore, Susan J. Armistead, house, NC 32, 0.25 mi. W od jct. with NC 37, Edenton, 05000436

Guilford County

Summerfield Historic District, 4105-4210 Oak Ridge Rd. and 7702-7804 Summerfield Rd., Summerfield, 05000437

Rowan County

McCanless, Walter, House, 200 Confederate Ave., Salisbury, 05000452

Warren County

Liberia School, 4.5 mi. S of Warrenton, Sw side of NC 58, Wareenton, 05000438

Oregon

Multnomah County

Anderson, Emanuel and Christina, House, 1420 SE Roberts Ave., Gresham, 05000448

Pennsylvania

Berks County

First National Bank in Fleetwood, Main and Franklin St., Fleetwood, 05000449

Lancaster County

Furnace Hills Tenant House, Unpaved Rd approx. 500 ft. E of Project Dr., West Cocalico Township, 05000451

Northampton County

Illick's Mill, 130 Illick's Mill Rd., Bethlehem, 05000450

Wisconsin

Rock County

Columbus Circle Historic District, Columbus Circle generally bounded by N. Adams and E. Milwaukee Sts. and N. Garfield Ave., Janesville, 05000453

A request for removal has been made for the following resource:

Minnesota

Pine County

Bridge No. 1811 over Kettle River (Iron and Steel Bridges of Minnesota MPS) Co. Hwy 33 over Kettle River, Rutledge vicinity, 98001107

[FR Doc. 05-9338 Filed 5-10-05; 8:45 am]

BILLING CODE 4312-51-P